DEPARTMENT OF THE TREASURY

Agency Information Collection Activities; Submission for OMB Review; Comment Request; Form 13614-NR—Nonresident Alien Intake and Interview Sheet

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 29, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Internal Revenue Service (IRS)

Title: Form 13614-NR—Nonresident Alien Intake and Interview Sheet.

OMB Control Number: 1545-2075.

Type of Review: Extension without change of a currently approved collection.

Description: The form is used to assist volunteer tax preparers in preparing tax returns for nonresident aliens. It ensures essential personal information is obtained and collected in a consistent manner which is critical to the preparation of accurate returns compliant with tax law.

Form: 13614-NR.

Affected Public: Individuals and households.

Estimated Number of Respondents: 565,039.

Frequency of Response: Annually.

Estimated Total Number of Annual Responses: 565,039.

Estimated Time per Response: 15 minutes.

Estimated Total Annual Burden Hours: 141,260.

(Authority: 44 U.S.C. 3501 et seq.)

Dated: October 24, 2019.
Spencer W. Clark,
Treasury PRA Clearance Officer.

[FR Doc. 2019-23658 Filed 10-29-19; 8:45 am]

BILLING CODE 4830-01-P